ENVIRONMENTAL PROTECTION AGENCY

[FRL-9706-8]

Forms and Procedures for Submitting Compliance Reports: Requirements Pertaining to Reformulated Gasoline, Anti-dumping, Gasoline Sulfur, Renewable Fuel Standard Requirements, etc. and Greenhouse Gas Reporting Requirements Related to Coal-Based Liquid Fuels and Petroleum Products

AGENCY: Environmental Protection Agency (EPA).

ACTION: Notice.

SUMMARY: EPA's Office of Transportation and Air Quality (OTAQ) is announcing that compliance reports submitted or due on or after August 31, 2012 must be submitted via EPA's Central Data Exchange (CDX). The substance and format of the reports is unchanged. EPA is switching to all-electronic reporting using CDX because it is simple, cost effective, and will improve the availability and integrity of data. As of August 31, 2012, parties will no longer be permitted to submit reports via portable electronic media, such as CDs or diskettes. This notice affects parties subject to reporting requirements under 40 CFR part 80, including requirements pertaining to reformulated gasoline, anti-dumping, gasoline sulfur, ultra-low sulfur diesel, benzene content, and the renewable fuel standard. This notice also affects parties subject to greenhouse gas reporting requirements related to coal-based liquid fuels and petroleum products under 40 CFR part 98, subparts LL and MM.

DATES: The reporting procedures described in this notice are effective starting with reports due or submitted to EPA on or after August 31, 2012.

FOR FURTHER INFORMATION CONTACT: Anne-Marie C. Pastorkovich, Attorney/Advisor, Environmental Protection Agency, 1200 Pennsylvania Avenue NW. (6406J), Washington, DC 20460; telephone number: 202-343-9623; fax number: 202-343-2801; email address: pastorkovich.anne-marie@epa.gov.

SUPPLEMENTARY INFORMATION:

I. Does this notice apply to me?

This action affects regulated parties who submit information to EPA under fuels programs governed by 40 CFR Part 80, including the reformulated gasoline, anti-dumping, gasoline sulfur, ultra-low sulfur diesel, and benzene programs, as well as the renewable fuel standard. This action also affects regulated parties who submit information to EPA related to the greenhouse gas reporting requirements of 40 CFR part 98, subparts LL and MM. The specific programs and forms affected are discussed in Section III—What Reports Must Be Submitted via CDX? Reports due or submitted to EPA on or after August 31, 2012 must be submitted to the OTAQ Fuels Reporting System via the EPA Central Data Exchange (CDX). As of that date, regulated parties will no longer be permitted to report by submitting portable electronic media, such as CDs or diskettes. This notice also affects the resubmission of any report to EPA, if the resubmission occurs on or after August 31, 2012. If you have further questions regarding the applicability of this action to a particular party, please contact the person listed in FOR FURTHER INFORMATION CONTACT.

II. Why is EPA switching to all-electronic reporting using CDX?

EPA's Central Data Exchange (CDX) enables fast, efficient, and secure submission of data to EPA. Among the advantages offered by CDX are the following features, which will improve fuel reporting under 40 CFR Part 80 and greenhouse gas reporting under 40 CFR part 98, subparts LL and MM. CDX allows regulated parties to:

• Submit data through one centralized and secure point of access;

• Receive confirmation from EPA when submissions are received;

• Submit data in a variety of formats including Excel and flat-file; and

• Reduce costs associated with submitting and processing data submissions.

EPA does not charge the regulated party to set up a CDX account. Virtually all regulated parties subject to 40 CFR part 80 already have CDX accounts and EPA's primary reporting instructions already specify the submission of compliance reports using CDX. However, to date we have permitted submission of CDs or diskettes as an alternative to CDX reporting under certain circumstances. Starting with reports due or submitted on or after August 31, 2012, these alternative options for submitting reports will no longer apply.

There are several reasons for eliminating alternative submission options. Parties often submit CDs without properly “burning” data to them, so that no report is submitted. EPA staff must then notify the regulated party that they must re-submit using CDX or by sending a CD that actually contains the required data. This type of reporting error cannot occur with a CDX transmission.

Electronic media submitted to EPA via postal mail is irradiated for security reasons, which often damages CDs and diskettes, rendering them unusable. When this occurs, EPA staff must notify regulated parties to ensure a usable resubmission occurs. This type of damage cannot occur with a CDX transmission.

When parties submit portable electronic media such as CDs or diskettes, they are also required to submit a physical, signed, cover letter that identifies all the files being submitted and that explains the reason why the data was not submitted to EPA using CDX. EPA is required to review and retain this paperwork and must match up the paperwork to the physical media submitted. We must store both the paper and the physical media, and eventually we must catalog and archive them. With CDX, the process is done quickly, easily, and electronically, and no superfluous paper record or physical object requiring special storage is generated by the submitter. EPA is able to more quickly and efficiently process reports received through CDX, and the amount of paper and physical media that must be utilized, reviewed, stored, and eventually archived, is greatly reduced.

EPA believes there is no reason to provide for alternatives to CDX and that exclusive use of CDX will increase efficiency and lower the costs associated with the submission and processing of compliance reports. It will also enhance the availability and integrity of information stored in our compliance database. Most compliance data is not publicly available (since it often contains information claimed as confidential business information by the submitter), but the data must be made available to EPA program and enforcement personnel. By utilizing CDX, information is entered into our compliance database and available for use much more quickly. By fully utilizing CDX, we expect not only enhanced availability, but enhanced data integrity as well. Parties using CDX are able to submit data in common file formats (including Excel); EPA is also providing a unified report form that allows companies to check report formats before submission to help avoid careless errors that prevent reports from being accepted by the system. Using CDX, a user may view its own reporting history and submitters may download and decrypt all reports that they submitted to EPA after July of 2011.

Fully implementing electronic reporting via CDX is consistent with EPA, and government-wide, efforts to encourage secure electronic reporting and reduce costs associated with the processing and storage of paper formats and accompanying physical media. The alternative options we provided previously in the instructions for 40 CFR part 80 programs and for 40 CFR part 98, subparts LL and MM were not meant as primary means of reporting, but were generally intended as a temporary measure for parties who did not have working CDX accounts in time for a reporting deadline. For example, the instructions for the RFS2 alternative reporting procedure specifically state that the procedure is intended for parties who were unable to get a CDX account within a month of the reporting deadline, and further require that the party explain the reason they were not reporting via CDX in the cover letter they provide with the mailed-in media. Since virtually all reporting parties already have CDX accounts, we no longer believe any alternative submission options are necessary. We are providing ample notice in order to ensure that any party who does not yet have a CDX account has sufficient time to get one prior to August 31, 2012. Any party requiring a new CDX account may set up an account at http://cdx.epa.gov/epa_home.asp.

III. What reports must be submitted via CDX?

For parties subject to the reformulated gasoline (RFG) and anti-dumping regulations of Subparts D and E, the Tier 2 gasoline sulfur regulations of Subpart H and the gasoline toxics requirements (MSAT2) of Subpart J, reports must be submitted via CDX, starting with reports submitted or due on or after August 31, 2012. The report forms currently in use as of July 3, 2012 are listed with their OMB approval numbers and current expiration dates:

• 3520-20C (RFG0301): Reformulated Gasoline and Anti-Dumping Batch Report, OMB Control Number 2060-0277, Expires December 31, 2014;

• 3520-20D (RFG0400): Reformulated Gasoline and Anti-Dumping Quarterly Summary, OMB Control Number 2060-0277, Expires December 31, 2014;

• 3520-20E (RFG0500): Reformulated Gasoline and Anti-dumping Annual Compliance Designation, OMB Control Number 2060-0277, Expires December 31, 2014;

• 3520-20H (RFG0800): Anti-Dumping Program Annual Report, OMB Control Number 2060-0277, Expires December 31, 2014;

• 3520-20I (RFG0900): Reformulated Gasoline Toxics Emissions Performance Averaging Report, OMB Control Number 2060-0277, Expires December 31, 2014;

• 3520-20J (RFG1000): Reformulated Gasoline Program Benzene Content Averaging Report, OMB Control Number 2060-0277, Expires December 31, 2014;

• 3520-20L (RFG1200): Reformulated Gasoline Program NOX Emissions Performance Averaging Report (Complex Model), OMB Control Number 2060-0277, Expires December 31, 2014;

• 3520-20M (RFG1300): Reformulated Gasoline Program VOC Emissions Performance Averaging Report, OMB Control Number 2060-0277, Expires December 31, 2014;

• 3520-20N (RFG1400): Reformulated Gasoline Program Averaging Areas Report, OMB Control Number 2060-0277, Expires December 31, 2014;

• 3520-20P (RFG1600): Reformulated Gasoline Program Credit Transfer Report (Complex Model), OMB Control Number 2060-0277, Expires December 31, 2014;

• 3520-20Q (RFG1700): Reformulated Gasoline Program Oxygen Content Averaging Report (Complex Model), OMB Control Number 2060-0277, Expires December 31, 2014;

• RFG2000: RFG & Anti-Dumping Annual Benzene Report (MSAT-2), OMB Control Number 2060-0277, Expires December 31, 2014;

• RFG2200: MSAT2 Credit Transfer Report (MSAT-2), OMB Control Number 2060-0277, Expires December 31, 2014;

• RFG2500: MSAT-2 Precompliance Report (MSAT-2), OMB Control Number 2060-0277, Expires December 31, 2014; and

• Gasoline Sulfur and Benzene Batch Report (Tier 2 Gasoline Sulfur and MSAT-2), OMB Control Numbers 2060-0437 and 2060-0277, Expiring January 31, 2014 and December 31, 2014.

Forms and instructions may be viewed on EPA's “Reformulated Gasoline Reporting Forms” Web page at the following URL: http://www.epa.gov/otaq/fuels/reporting/rfg.htm.

For parties who are subject to the Tier 2 gasoline sulfur reporting regulations of Subpart H, the following reports must be submitted via CDX, starting with reports submitted or due on or after August 31, 2012. The report forms currently in use as of July 3, 2012 are listed with their OMB approval numbers and current expiration dates:

• OH-GSC01: Overhead Information Included in Company Reports, OMB Control Number 2060-0437, Expiring January 31, 2014—this form includes the “overhead” (identifying information) that must be included in Tier 2 gasoline sulfur reports on a company level;

• GSC0100: Gasoline Sulfur Allotment Banking Report (company report), OMB Control Number 2060-0437, Expiring January 31, 2014;

• GSC0200: Gasoline Sulfur Allotment Transfer/Conversion Report (company report), OMB Control Number 2060-0437, Expiring January 31, 2014;

• GSC0300: Gasoline Sulfur Corporate Pool Average Report (company report), OMB Control Number 2060-0437, Expiring January 31, 2014;

• GSC0400: Gasoline Sulfur Corporate Pool Facility Identification Report (company report), OMB Control Number 2060-0437, Expiring January 31, 2014;

• OH-GSF01: Overhead Information Included in Facility Reports, Expiring January 31, 2014—this form includes the “overhead” (identifying information) that must be included in Tier 2 gasoline sulfur reports on a facility level;

• GSF-0100: Gasoline Sulfur Credit Banking and Allotment Generation Report, OMB Control Number 2060-0437, Expiring January 31, 2014;

• GSF-0200: Gasoline Sulfur Credit Transfer/Conversion Report, OMB Control Number 2060-0437, Expiring January 31, 2014;

• GSF-0301: Gasoline Sulfur Facility Summary Report, OMB Control Number 2060-0437, Expiring January 31, 2014;

• GSF-0401: Gasoline Sulfur and Benzene Batch Report, OMB Control Number 2060-0437, Expiring January 31, 2014; and

• GSF-0500: Gasoline Sulfur Report for Batches Containing Previously Certified Gasoline, OMB Control Number 2060-0437, Expiring January 31, 2014.

Forms and instructions may be viewed on EPA's “Tier 2 Gasoline Sulfur Reporting Forms” Web page at the following URL: http://www.epa.gov/otaq/fuels/reporting/tier2.htm.

For parties who are subject to the diesel sulfur reporting regulations of Subpart I, the following report forms must be submitted via CDX, starting with reports submitted or due on or after August 31, 2012. The report forms currently in use as of July 3, 2012 are listed with their OMB approval numbers and current expiration dates:

• DSF0100: Diesel Fuel Sulfur Credit Banking & Generation Report, OMB Control Number 2060-0308, Renewal Pending;

• DSF0200: Diesel Fuel Sulfur Credit Transfer Report, OMB Control Number 2060-0308, Renewal Pending;

• DSF0302: Diesel Fuel Sulfur Facility Summary Report, OMB Control Number 2060-0308, Renewal Pending;

• DSF0401: Diesel Fuel Sulfur Batch Report, OMB Control Number 2060-0308, Renewal Pending;

• DSF0504: Designate & Track Handoff Report, OMB Control Number 2060-0308, Renewal Pending;

• DSF0601: Designate & Track Total Volume Report, OMB Control Number 2060-0308, Renewal Pending;

• DSF0700: Designate & Track Facility Compliance Calculation Report, OMB Control Number 2060-0308, Renewal Pending;

• DSE0700: Designate & Track Entity Compliance Calculation Report, OMB Control Number 2060-0308, Renewal Pending;

• DSF0900: Motor Vehicle Diesel Fuel Sulfur Pre-Compliance Report, OMB Control Number 2060-0308, Renewal Pending; and

• DSF0951: NRLM Diesel Fuel Sulfur Pre-Compliance Report, OMB Control Number 2060-0308, Renewal Pending.

Forms and instructions may be viewed on EPA's “Diesel Fuel Reporting Forms” Web page at the following URL: http://www.epa.gov/otaq/fuels/reporting/diesel.htm. The spreadsheet templates for Diesel Sulfur & Solvent Yellow 124 Test Facility Qualification are not affected by this notice. These forms are only used by fuel testing facilities in order to qualify use of test methods which determine sulfur content and the presence of a marker.

For parties who are subject to the renewable fuel standard (RFS2) regulations of Subpart M, the following reports must be submitted via CDX, starting with reports submitted or due on or after August 31, 2012. The report forms currently in use as of the date of July 3, 2012 are listed with their OMB approval numbers and current expiration dates:

• RFS0103: RFS2 Q1 2012 Activity Report, OMB Control Number 2060-0640, Expiring July 31, 2013.

• RFS0104: RFS2 Activity Report, OMB Control Number 2060-0640, Expiring July 31, 2013.

• RFS0201: RFS1 RIN Transaction Report, OMB Control Number 2060-0640, Expiring July 31, 2013.

• RFS0302: RFS2 2011 Annual Compliance Report, OMB Control Number 2060-0640, Expiring July 31, 2013.

• RFS0601: RFS2 Renewable Fuel Producer Supplemental Report, OMB Control Number 2060-0640, Expiring July 31, 2013.

• RFS0701: RFS2 Renewable Fuel Producer Co-products Report, OMB Control Number 2060-0640, Expiring July 31, 2013.

• RFS0801: RFS2 Renewable Biomass Report, OMB Control Number 2060-0640, Expiring July 31, 2013.

• RFS0901: RFS2 Production Outlook Report, OMB Control Number 2060-0640, Expiring July 13, 2013.

Prior year versions of these forms are on our Web page for the purpose of resubmissions. These include the RFS0101—RFS2 2011Activity Report, RFSA101—RFS 2011 Activity Report, RFS0102—RFS2 2011 Activity Report, RFS0301—RFS 2010 Annual Compliance Report, RFS0700—RFS2 Renewable Fuel Producer Co-Products Report, RFS 0800—RFS2 Renewable Biomass Report, and RFS0900—RFS2 Production Outlook Report. In addition, several RFS1 reports are provided at our Web page for resubmission purposes. These include the RFS0100—RFS Activity Report, RFS0200—RIN Transaction Report, RFS0300—RFS Obligated Party Annual Compliance Report, and RFS0400—RFS RIN Generation Report. As of August 31, 2012, any resubmission of these reports must use CDX.

Forms and instructions may be viewed on EPA's “Renewable Fuel Standard Reporting Forms” Web page at the following URL: http://www.epa.gov/otaq/fuels/reporting/rfs.htm.

For parties subject to the Mandatory Reporting of Greenhouse Gases Rule of 40 CFR part 98, subparts LL (suppliers of coal-based liquid fuels) and/or MM (suppliers of petroleum products), reports must be submitted via CDX, starting with reports submitted or due on or after August 31, 2012. The report forms currently in use as of the date of July 3, 2012 are listed with their OMB approval numbers and current expiration dates:

• GHG0101: GHG Report—Products by Measurement Method, OMB Control No. 2060-0629, Expiring November 30, 2012; OMB Control No. 2025-0003, Expiring April 30, 2015

• GHG0201: GHG Report—Aggregate Petroleum Products, Natural Gas Liquids and Coal-to-Liquid Products, OMB Control No. 2060-0629, Expiring November 30, 2012; OMB Control No. 2025-0003, Expiring April 30, 2015

• GHG0301: GHG Report—Total CO2, OMB Control No. 2060-0629, Expiring November 30, 2012; OMB Control No. 2025-0003, Expiring April 30, 2015

• GHG0401: GHG Report—Blended Products that Do Not Contain Biomass, OMB Control No. 2060-0629, Expiring November 30, 2012; OMB Control No. 2025-0003, Expiring April 30, 2015

• GHG0501: GHG Report—Crude Oil Received, OMB Control No. 2060-0629, Expiring November 30, 2012; OMB Control No. 2025-0003, Expiring April 30, 2015

• GHG0601: GHG Report—NAICS Codes and Parent Company Information, OMB Control No. 2060-0629, Expiring November 30, 2012; OMB Control No. 2025-0003, Expiring April 30, 2015

Prior year versions of these forms are included on our Web page for the purpose of resubmissions. These include the GHG0100: GHG Report—Products by Measurement Method, GHG0200: GHG Report—Aggregate Petroleum Products, Natural Gas Liquids and Coal-to-Liquid Products, GHG0300: GHG Report—Total CO2, GHG0400: GHG Report—Blended Products that Do Not Contain Biomass, GHG0500: GHG Report—Crude Oil Received, and GHG0600: GHG Report—NAICS Codes and Parent Company Information. As of August 31, 2012, any resubmission of these forms must use CDX.

Forms and instructions may be viewed on EPA's “Greenhouse Gas Reporting Program Reporting Forms and Instructions” Web page at the following URL: http://www.epa.gov/otaq/fuels/reporting/ghg-llmmreporting.htm.

IV. Useful References

The following Web pages provide information about CDX and provide information, instructions, and tutorials to assist parties in submitting reports to EPA:

• General Information about the EPA Central Data Exchange (CDX)— https://www.epa.gov/cdx/

• Submitting Reports—Central Data Exchange— http://www.epa.gov/otaq/fuels/reporting/cdx.htm

• Office of Transportation and Air Quality (OTAQ)—DCFUEL Registration Quick Start Guide (PDF)— http://www.epa.gov/otaq/regs/fuels/420b11028b.pdf

• Office of Transportation and Air Quality (OTAQ) DCFUEL User Guide (PDF)— http://www.epa.gov/otaq/regs/fuels/420b11027b.pdf

• Office of Transportation and Air Quality (OTAQ) DCFUEL Submission Quick Start Guide (PDF)— http://www.epa.gov/otaq/regs/fuels/420b11029.pdf

• DCFUEL On-Line Reporting Tutorial— http://www.epa.gov/otaq/fuels/reporting/dcfuelstutorial/dcfuels.htm

List of Subjects

Environmental protection; Administrative practice and procedure; Air pollution control; Confidential business information; Diesel fuel; Fuel additives; Gasoline; Imports; Motor vehicle pollution; Reporting and recordkeeping requirements.

Dated: July 11, 2012.
Byron J. Bunker,
Acting Director, Compliance Division, Office of Transportation and Air Quality.

[FR Doc. 2012-18377 Filed 7-26-12; 8:45 am]

BILLING CODE 6560-50-P